DEPARTMENT OF AGRICULTURE

Agricultural Marketing Service

[Docket No. AMS-TM-13-0078; TM-13-02]

Farmers' Market Promotion Program: Notice of Request for Extension and Revision of a Currently Approved Information Collection—Farmers Market Promotion Program

AGENCY: Agricultural Marketing Service, USDA.

ACTION: Notice and request for comments.

SUMMARY: In accordance with the Paperwork Reduction Act of 1995 (44 U.S.C. chapter 35), this notice announces the Agricultural Marketing Service's (AMS) intention to request approval from the Office of Management and Budget (OMB) for the currently approved information collection for OMB 0581-0235, an extension and revision of forms “TM-29, FMPP Project Proposal Narrative Form” and “TM-30, FMPP Supplemental Budget Summary Form.” An electronic version of these mandatory forms will be posted within the Grants.gov forms library for application submission.

DATES: Comments received by March 24, 2014 will be considered.

FOR FURTHER INFORMATION CONTACT: Contact Carmen Humphrey, Chief, Marketing Grants and Technical Assistance Branch, Marketing Services Division, Transportation and Marketing Programs, Agricultural Marketing Service (AMS), USDA; 202/720-0933.

ADDRESSES: Contact Carmen Humphrey, Chief, Marketing Grants and Technical Assistance Branch, Marketing Services Division, Transportation and Marketing Programs, AMS, USDA, 1400 Independence Avenue SW., Room 4509-South Building, Washington, DC 20250; 202/720-0933, or fax 202/690-4152.

Comments should reference docket number AMS-TM-13-0078, TM-13-02 and be sent to Mrs. Carmen Humphrey at the above address or via the Internet at http://www.regulations.gov.

SUPPLEMENTARY INFORMATION:

Title: Farmers Market Promotion Program.

OMB Number: 0581-0235.

Expiration Date of Approval: March 31, 2014.

Type of Request: Extension and revision of a currently approved information collection.

Abstract: The Farmers Market Promotion Program (FMPP) was created through an amendment of the Farmer-to-Consumer Direct Marketing Act of 1976 (7 U.S.C. 3001-3006). The grants authorized by the FMPP were targeted to help improve and expand domestic farmers markets, roadside stands, community-supported agriculture programs, agritourism activities, and other direct producer-to-consumer marketing opportunities. Approximately $1 million each year was allocated for Fiscal Years (FY) 2006-2007, $3 million for FY 2008, $5 million for FY 2009-2010, and $10 million for FY 2011-2012. Funding was not provided for the FMPP in FY 2013.

In FY 2006 thru 2012, the maximum amount awarded for any one proposal could not exceed $100,000. Entities eligible to apply included agricultural cooperatives, producer networks, and producer associations; local governments; nonprofit corporations; public health corporations; economic development corporations; regional farmers market authorities; and Tribal governments.

On October 1, 2010, the AMS published a notice and request for comments in the Federal Register (75 FR 60713) to extend and revise the currently approved information collection under the FMPP. The OMB approved the request and revision of the information collection 0581-0235 for 3 years on March 31, 2011. The forms and other requirements under the FMPP are as follows:

1. Form SF-424, “Application for Federal Assistance,” (approved under OMB collection number 4040-0004) is required by all entities seeking Federal assistance.

2. Form SF-424A, “Budget Information—Non-Construction Programs,” (approved under OMB collection number 0348-0044) is no longer required to be completed by all applicants. The project narrative contains a detailed project budget within Form “TM-30, FMPP Supplemental Budget Summary Form.” The burden hours for the Supplemental Budget Form are captured in the proposal narrative.

3. Form SF-424B, “Assurances—Non-Construction Programs,” (approved under OMB collection number 0348-0040) must be completed by applicants to assure the Federal government of the applicant's legal authority to apply for Federal assistance.

4. Proposal Narrative. Completed applications must include a proposal narrative, which will include the supplemental budget summary. The complete narrative, must not exceed 12 typed single-spaced 8″ x 11″ pages.

New requirements are made to the narrative with this submission to include: the revision to the requested information, subject headings, and the update and addition to the section elements.

The applicant's narrative must include the following elements to explain the project work:

a. Project Title. Must capture the primary focus of the project and match the title provided on the SF-424.

b. Applicant/Organization Information. The applicant/organization name, contact name, mailing address, telephone and fax number, and the email address(es) for the person(s) designated to answer questions about the application, financial information, and the proposed project budget.

c. Primary Project Manager Information. The name, mailing address, telephone and fax number, and email address for the person(s) responsible for managing and/or overseeing the project.

d. Requested FMPP Funding and Matching Funds (if a match is required). The dollar amount requested from FMPP. Include other funding sources, matching, and in-kind contributions in the “Matching Funds,” section as applicable.

e. Entity Type and Eligibility Statement. The entity type, statement of qualification as an eligible entity, and any required documentation of eligibility. Under FMPP, agricultural cooperatives, local governments, nonprofit corporations, public benefit corporations, economic benefit corporations, regional farmers' market authorities, tribal governments, and certain other entity types were eligible for awards.

f. EBT, Equipment, Supplies, and Promotional Projects. Indication of whether or not the proposal includes a new or existing electronic benefit transfers (EBT) component; or includes purchases of equipment, supplies, or other promotional items related to EBT.

g. Executive Summary. The proposal summary provides the project description, goals to be accomplished, outcomes expected, and a timeline of activities.

h. Project Implementation Address. The location(s) where the project(s) will be implemented, including the street address, city, state, zip code, county, and latitude and longitude coordinates (Internet-obtainable geo-coordinates from mapping software) for all places where the project will be implemented.

i. Goals of the Project. A clear statement of the goal(s) and activity(ies) of the project. A brief statement explaining how the project addresses the stated mission of FMPP is required.

j. Background Statement. A description of the current conditions that justify the need of the project, and an explanation of why the condition will not be improved absent the project so that the need will remain unmet.

k. Workplan, Resource, and Timeline Requirements. A list of each planned activity(ies), a timeline for completion, resources needed, and milestones for assessing progress for each activity(ies).

l. Expected Outcomes and Beneficiaries. List of outcomes of the project and the beneficiaries of each outcome. Describe the method of quantifying the outcome and beneficiaries that will be used to measure the success of the project.

m. Beneficiaries. This information has been consolidated in the Expected Outcomes and Beneficiaries section and is no longer required.

n. Evaluation Criteria Statements. All applications will be evaluated against the “Proposal Evaluation Criteria,” published each year the program operates, which can be found in the FMPP Guidelines at www.ams.usda.gov/FMPP. The criteria may be revised annually based on the priorities for annual funding. A statement of applicability is required for each criterion. For full consideration, all criteria should be addressed by the proposal.

l. Existing and Pending Support. List all current and pending public or private support for this project. An application that duplicates or overlaps substantially with project activities or application already reviewed and funded will not be funded under FMPP.

m. Supplemental Budget Summary. Provide a detailed budget using six (6) categories of expenses: Personnel, contractor, travel, equipment, supplies, and other. If a match is required, a separate column with the same six (6) categories will be used to describe the match. A budget narrative is required to explain how items are used to support the project activities, following the FMPP Guidelines.

o. Primary Proposal Activity. This section is no longer required.

p. Proposal Activities. The information in this section has been consolidated with the Workplan, Resource, and Timeline Requirements section and is no longer required.

5. FMPP Mandatory Narrative Forms. Forms “TM-29, FMPP Project Proposal Narrative Form” and “TM-30, FMPP Supplemental Budget Summary Form” were developed to assist applicants in placing the required information in the proper order in the proposal narrative. These forms are mandatory and must be used for the application development and submittal processes. Both forms TM-29 and TM-30 include instructions to assist applicants in completing the narrative and supplemental budget information.

The “FMPP Project Proposal Narrative Form” and “FMPP Supplemental Budget Summary Form” for the proposal narrative will not increase the total number of burden hours. These burden hours are captured in the proposal narrative preparation. AMS has initiated development of fillable electronic versions of these forms. An electronic version of these mandatory forms will be posted within the Grants.gov forms library for application submission.

Before funds are dispersed, applicants that are selected for FMPP grant funds (awardees) must complete the following forms:

6. Form AD-1047, “Certification Regarding Disbarment, Suspension, and Other Responsibility Matters—Primary Covered Transactions.” This form must have the awardee's original signature.

7. Form AD-1048, “Certification Regarding Disbarment, Suspension, Ineligibility and Voluntary Exclusion—Lower Tier Covered Transactions.” This form must have the awardee's original signature.

8. Form AD-1049, “Certification Regarding Drug-Free Workplace Requirements (Grants) Alternative I—For Grantees Other Than Individuals.” The awardee keeps this document for their records.

Additionally, awardees must also complete the following forms and paperwork for AMS:

9. Grant Agreement—Form AMS-33, United States Department of Agriculture, Agricultural Marketing Service, Agreement Face Sheet.” The grant agreement is updated to include a mandatory form for awardees to sign indicating compliance with the terms and conditions of the grant award, project work approved, and receipt of grant funding. The sheet includes the grant authority; funding dollar amount; awardee and Federal contact names, address, email addresses, and phone and fax numbers; agreement number; project title, objectives, and statement of work; project work beginning and ending dates; and awardee and AMS Transportation and Marketing Programs, Deputy Administrator's signatures. Two (2) copies of this agreement are required with the awardee's and the AMS Transportation and Marketing Programs, Deputy Administrator's office signatures and dated for each grant.

10. Form SF-270, “Request for Advance and Reimbursement” (approved under OMB collection number 4040-0012) is required whenever the awardees request an advance or reimbursement of Federal grant funds. AMS expects that at least three (3) SF-270 forms will be submitted during the grant agreement period.

11. Performance (Progress) Reports. The Performance Report is written documentation required to notify AMS about the work activities and progress towards completing the awardee's established project workplan goals, objectives, and timelines. AMS requires that at least two (2) Performance Reports will be submitted during the grant agreement period on a schedule provided to the awardee.

12. Final Performance Report. The Final Performance Report is a written description of the fulfillment of the project terms required by AMS within 90 days after the ending date of the grant agreement. This information is utilized as final documentation of completion of the workplan goals, objectives, and activities. Details for the construction of this report are provided on the FMPP Web site.

13. Form SF-425, Federal Financial Report currently approved under OMB collection number 0348-0061 is required by AMS with each payment request. AMS expects that at minimum two (2) or a maximum of seven (7) Federal Financial Reports will be submitted depending on the duration of the grant agreement period. Additionally, a final “Federal Financial Report” is to be completed once by the awardee(s) 90 days after the expiration date of the grant period.

14. Grant Recordkeeping. AMS requires that grant recipients maintain all records pertaining to the grant for a period of 3 years after the final status report has been submitted to AMS, in accordance with Federal recordkeeping regulations. This requirement is provided in 7 CFR 3015.21 and 3015.22 and the FMPP General Terms and Conditions, which are published at AMS' Marketing Services Branch Web site at: http://www.ams.usda.gov/FMPP.

AMS submits the following revisions in this information collection:

Estimate of Burden: Public reporting burden for this collection of information is estimated to average 6.77032 hours per response.

Respondents: Agricultural Cooperatives, Producer Networks, or Producer Associations; Local Governments; Nonprofit Corporations; Public Benefit Corporations; Economic Development Corporations; Regional Farmers' Market Authorities; and Tribal Governments.

Estimated annual number of respondents: 1,500.

Estimated annual number of responses per respondent: 2.07.

Estimated annual number of responses: 3,100.

Estimated total annual burden on the respondents: 20,988 hours.

AMS is committed to compliance with the Government Paperwork Elimination Act that requires Government agencies in general to provide the public the option of submitting information or transacting business electronically to the maximum extent possible:

• The AD forms can be filled out electronically and scanned as a PDF for submission or printed out and saved for the applicant's records.

• The SF form can be filled out electronically via the FMPP Web site, scanned and submitted as a PDF, and printed or saved for the applicant's records.

• The mandatory TM forms “FMPP Proposal Narrative Form” and “FMPP Supplemental Budget Summary Form” can be filled out, scanned and submitted as a PDF, and printed or saved for the applicant's records.

Since all applicants are required to submit an FMPP application via Grants.gov, all forms, the proposal narrative and eligibility statement, can also be filled out electronically and submitted as an attachment through Grants.gov during the FMPP application process. Additionally, Grants.gov applicants are not required to submit any additional (hard copy) paperwork to AMS.

Comments are invited on: (1) Whether the collection of information is necessary for the proper performance of the functions of the agency, including whether this information will have practical utility; (2) the accuracy of the agency's estimate of the burden of this collection of information including the validity of the methodology and assumptions used; (3) ways to enhance the quality, utility, and clarity of the information to be collected; and (4) ways to minimize the burden of the collection of information on those who are to respond, including the use of appropriate automated, electronic, mechanical, or other technological collection techniques or other forms of information technology.

All comments received by AMS will be available for public inspection during regular business hours, 8 a.m. to 4:30 p.m. Eastern Time, Monday through Friday, at the same address; and can be viewed via the Internet at http://www.regulations.gov. All responses to this notice will be summarized and included in the request for OMB approval. All comments will become a matter of public record.

Dated: January 14, 2014.
Rex A. Barnes,
Associate Administrator, Agricultural Marketing Service.

[FR Doc. 2014-01078 Filed 1-21-14; 8:45 am]

BILLING CODE 3410-02-P